DEPARTMENT OF HOMELAND SECURITY

Federal Emergency Management Agency

[Docket ID FEMA-2022-0002; Internal Agency Docket No. FEMA-B-2258]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Surprise, (22-09-0029P). | The Honorable Skip Hall, Mayor, City of Surprise, 16000 North Civic Center Plaza, Surprise, AZ 85374. | Public Works, Department Engineering, Development Services, 16000 North Civic Center Plaza, Surprise, AZ 85374. | https://msc.fema.gov/portal/advanceSearch.msc.fema.gov/portal/advanceSearch. | Nov. 14, 2022 | 040053
Maricopa | City of Surprise, (22-09-0374P). | The Honorable Skip Hall, Mayor, City of Surprise, 16000 North Civic Center Plaza, Surprise, AZ 85374. | Public Works, Department Engineering, Development Services, 16000 North Civic Center Plaza, Surprise, AZ 85374. | https://msc.fema.gov/portal/advanceSearch.msc.fema.gov/portal/advanceSearch. | Oct. 28, 2022 | 040053
Maricopa | Unincorporated Areas of Maricopa County, (22-09-0374P). | The Honorable Bill Gates, Chair, Board of Supervisors, Maricopa County, 301 West Jefferson Street, 10th Floor, Phoenix, AZ 85003. | Flood Control District of Maricopa County, 2801 West Durango Street, Phoenix, AZ 85009. | https://msc.fema.gov/portal/advanceSearch.msc.fema.gov/portal/advanceSearch. | Oct. 28, 2022 | 040037
California:
Riverside | City of San Jacinto, (21-09-1682P). | The Honorable Crystal Ruiz, Mayor, City of San Jacinto, 595 South San Jacinto Avenue, San Jacinto, CA 92583. | Tri-Lake Consultants, 24 South D Street, Suite 100, Perris, CA 92570. | https://msc.fema.gov/portal/advanceSearch.msc.fema.gov/portal/advanceSearch. | Nov. 9, 2022 | 065056
Riverside | Unincorporated Areas of Riverside County, (21-09-1682P). | The Honorable Jeff Hewitt, Chair, Board of Supervisors, Riverside County, 4080 Lemon Street, 5th Floor, Riverside, CA 92502. | Riverside County, Flood Control and Water Conservation District, 1995 Market Street, Riverside, CA 92501. | https://msc.fema.gov/portal/advanceSearch.msc.fema.gov/portal/advanceSearch. | Nov. 9, 2022 | 060245
San Diego | City of Poway, (21-09-1484P). | The Honorable Steve Vaus, Mayor, City of Poway, 13325 Civic Center Drive, Poway, CA 92064. | City Hall, 13325 Civic Center Drive, Poway, CA 92064. | https://msc.fema.gov/portal/advanceSearch.msc.fema.gov/portal/advanceSearch. | Nov. 4, 2022 | 060702
Illinois:
Cook | Village of Western Springs, (21-05-1260P). | The Honorable Alice Gallagher, Village President, Village of Western Springs, Village Hall, 740 Hillgrove Avenue, Western Springs, IL 60558. | Village Hall, Community Development Department, 740 Hillgrove Avenue, Western Springs, IL 60558. | https://msc.fema.gov/portal/advanceSearch.msc.fema.gov/portal/advanceSearch. | Oct. 28, 2022 | 170171
Will | Village of Bolingbrook, (22-05-1649P). | The Honorable Mary Alexander-Basta, Mayor, Village of Bolingbrook, 375 West Briarcliff Road, Bolingbrook, IL 60440. | Village Hall, 375 West Briarcliff Road, Bolingbrook, IL 60440. | https://msc.fema.gov/portal/advanceSearch.msc.fema.gov/portal/advanceSearch. | Oct. 24, 2022 | 170812
Indiana:
Morgan | City of Martinsville, (22-05-1449P). | The Honorable Kenneth Costin, Mayor, City of Martinsville, P.O. Box 1415, Martinsville, IN 46151. | City Hall, 59 South Jefferson Street, Martinsville, IN 46151. | https://msc.fema.gov/portal/advanceSearch.msc.fema.gov/portal/advanceSearch. | Sep. 28, 2022 | 180177
Morgan | Unincorporated Areas of Morgan County, (22-05-1449P). | Commissioner Don Adams, Morgan County Board of Commissioners, 180 South Main Street, Suite 112, Martinsville, IN 46151. | Morgan County, Administration Building, 180 South Main Street, Martinsville, IN 46151. | https://msc.fema.gov/portal/advanceSearch.msc.fema.gov/portal/advanceSearch. | Sep. 28, 2022 | 180176
Michigan:
Ingham | Charter Township of Lansing, (22-05-1554P). | Supervisor Maggie Sanders, Charter Township of Lansing, 3209 West Michigan Avenue, Lansing, MI 48917. | Township Hall, 3209 West Michigan Avenue, Lansing, MI 48917. | https://msc.fema.gov/portal/advanceSearch.msc.fema.gov/portal/advanceSearch. | Oct. 27, 2022 | 260632
Ingham | City of East Lansing, (22-05-1554P). | The Honorable Ron Bacon, Mayor, City of East Lansing, 410 Abbot Road, Room 100, East Lansing, MI 48823. | City Hall, 410 Abbott Road, East Lansing, MI 48823. | https://msc.fema.gov/portal/advanceSearch.msc.fema.gov/portal/advanceSearch. | Oct. 27, 2022 | 260089
Ingham | City of Lansing, (22-05-1554P). | The Honorable Andy Schor, Mayor, City of Lansing, 124 West Michigan Avenue, 9th Floor, Lansing, MI 48933. | City Hall, 124 West Michigan Avenue, Lansing, MI 48933. | https://msc.fema.gov/portal/advanceSearch.msc.fema.gov/portal/advanceSearch. | Oct. 27, 2022 | 260090
Nebraska:
Saline | City of Crete, (20-07-0590P). | The Honorable Dave Bauer, Mayor, City of Crete, 243 East 13th Street, Crete, NE 68333. | City Hall, 241 East 13th Street, Crete, NE 68333. | https://msc.fema.gov/portal/advanceSearch.msc.fema.gov/portal/advanceSearch. | Oct. 27, 2022 | 310186
Saline | Unincorporated Areas of Saline County, (20-07-0590P). | Commissioner Russ Karpisek, Chair, Saline County, 315 North Shimerda, Wilber, NE 68465. | Saline County Courthouse, 215 South Court Street, Wilber, NE 68465. | https://msc.fema.gov/portal/advanceSearch.msc.fema.gov/portal/advanceSearch. | Oct. 27, 2022 | 310472
Nevada: Clark | City of Henderson, (22-09-0379P). | The Honorable Debra March, Mayor, City of Henderson, 240 South Water Street, Henderson, NV 89015. | Public Works Department, 240 South Water Street, Henderson, NV 89015. | https://msc.fema.gov/portal/advanceSearch.msc.fema.gov/portal/advanceSearch. | Oct. 24, 2022 | 320005
New York:
Montgomery | City of Amsterdam, (21-02-0893P). | The Honorable Michael Cinquanti, Mayor, City of Amsterdam, 61 Church Street, Amsterdam, NY 12010. | City Hall, 61 Church Street, Amsterdam, NY 12010. | https://msc.fema.gov/portal/advanceSearch.msc.fema.gov/portal/advanceSearch. | Dec. 1, 2022 | 360440
Montgomery | Town of Amsterdam, (21-02-0893P). | Supervisor Thomas Dimezza, Town of Amsterdam, 283 Manny's Corners Road, Amsterdam, NY 12010. | Office Building, 283 Manny's Corners Road, Amsterdam, NY 12010. | https://msc.fema.gov/portal/advanceSearch.msc.fema.gov/portal/advanceSearch. | Dec. 1, 2022 | 360441
Montgomery | Town of Florida, (21-02-0893P). | Supervisor Eric Mead, Town of Florida, 214 Fort Hunter Road, Amsterdam, NY 12010. | Office Building, 214 Fort Hunter Road, Amsterdam, NY 12010. | https://msc.fema.gov/portal/advanceSearch.msc.fema.gov/portal/advanceSearch. | Dec. 1, 2022 | 360445
Montgomery | Town of Mohawk, (21-02-0893P). | Supervisor Ed Bishop, Town of Mohawk, P.O. Box 415, Fonda, NY 12068. | Town of Mohawk, Richard A. Papa Office Building, 2-4 Park Street, Fonda, NY 12068. | https://msc.fema.gov/portal/advanceSearch.msc.fema.gov/portal/advanceSearch. | Dec. 1, 2022 | 360452
Montgomery | Village of Fort Johnson, (21-02-0893P). | The Honorable Michael Simmons, Mayor, Village of Fort Johnson, P.O. Box 179, Fort Johnson, NY 12070. | Fort Johnson Municipal Building, 1 Prospect Street, Fort Johnson, NY 12070. | https://msc.fema.gov/portal/advanceSearch.msc.fema.gov/portal/advanceSearch. | Dec. 1, 2022 | 360447
South Carolina: Spartanburg | Unincorporated Areas of Spartanburg County, (21-04-4426P). | Chair A. Manning Lynch, Spartanburg County, 366 North Church Street, Main Level, Suite 1000, Spartanburg, SC 29303. | Spartanburg County, Administration Building, 366 North Church Street, Spartanburg, SC 29303. | https://msc.fema.gov/portal/advanceSearch.msc.fema.gov/portal/advanceSearch. | Oct. 3, 2022 | 450176

[FR Doc. 2022-16485 Filed 8-1-22; 8:45 am]

BILLING CODE 9110-12-P